DEPARTMENT OF ENERGY

Federal Energy Regulatory Commission

[Docket No. CP07-82-000]

Florida Gas Transmission Company, LLC; Notice of Request Under Blanket Authorization

February 16, 2007.

Take notice that on February 6, 2007, Florida Gas Transmission Company, LLC (FGT), 5444 Westheimer Road, Houston, Texas 77056, filed in Docket No. CP07-82-000, a prior notice request pursuant to sections 157.205 and 157.210 of the Federal Energy Regulatory Commission's regulations under the Natural Gas Act to construct, own, and operate a 6.64 mile loop of FGT's existing 30-inch mainline, located in Clay County, Florida, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, FGT proposes to construct approximately 6.64 miles of 30-inch pipeline loop (East Leg Expansion), and in accordance with the U.S. Department of Transportation safety requirements, FGT will install one new mainline valve, in Clay County, Florida. FGT states that the proposed pipeline is an extension of their existing 30-inch mainline. FGT estimates the cost of construction to be $16,000,000. FGT asserts that the East Leg Expansion project will provide incremental firm transportation service capacity of 10,000 MMBtu/d to help meet gas requirements for a new electric generation plant that Florida Municipal Power Agency is constructing in St. Lucie County, Florida.

Any questions regarding the application should be directed to Stephen T. Veatch, Sr. Director, Certificates and Tariffs, Florida Gas Transmission Company, LLC, 5444 Westheimer Road, P.O. Box 4967, Houston, Texas 77210-4967 at (713) 989-2024.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Magalie R. Salas,
Secretary.

[FR Doc. E7-3215 Filed 2-23-07; 8:45 am]

BILLING CODE 6717-01-P